DEPARTMENT OF HOMELAND SECURITY

Coast Guard

33 CFR Part 165

[Docket Number USCG-2017-0438]

Safety Zones; Annual Fireworks Events in the Captain of the Port Buffalo Zone

AGENCY: Coast Guard, DHS.

ACTION: Notice of enforcement of regulation.

SUMMARY: The Coast Guard will enforce a safety zone for the Sheffield Lake Fireworks, on Lake Erie and the Sheffield Lake boat ramp from 9:30 p.m. through 11 p.m. on Friday, July 14, 2017. This action is necessary to provide for the safety of life and property on navigable waters during this event. Our regulation for Annual Fireworks Events in the Captain of the Port Buffalo Zone identifies the safety zone for this event. During the enforcement period, no person or vessel may enter the respective safety zone without the permission of the Captain of the Port Buffalo.

DATES: The regulation in 33 CFR 165.939(a)(27) will be enforced from 9:30 p.m. through 11 p.m. on July 14, 2017.

FOR FURTHER INFORMATION CONTACT: If you have questions on this notice, call or email LT Ryan Junod, Coast Guard; telephone 216-937-0124, email ryan.s.junod@uscg.mil.

SUPPLEMENTARY INFORMATION: The Coast Guard will enforce the Safety Zones; Annual Fireworks Events in the Captain of the Port Buffalo Zone listed in 33 CFR 165.939 for the following event:

Sheffield Lake Fireworks, Sheffield Lake, OH: The safety zone listed in 33 CFR 165.939(a)(27) will be enforced from 9:30 p.m. through 11 p.m. on July 14, 2017. The safety zone will encompass all navigable waters of Lake Erie and Sheffield Lake Boat ramp within a 350 foot radius of land position 41°29′27.65″ N., 082°6′47.71″ W. (NAD 83) at Sheffield Lake Boat Ramp in Sheffield Lake, OH. This action is necessary to provide for the safety of life and property on navigable waters during this event. Pursuant to 33 CFR 165.23, entry into, transiting, or anchoring within these safety zones during an enforcement period is prohibited unless authorized by the Captain of the Port Buffalo or his designated representative. Those seeking permission to enter one of these safety zones may request permission from the Captain of Port Buffalo via channel 16, VHF-FM. Vessels and persons granted permission to enter this safety zone shall obey the directions of the Captain of the Port Buffalo or his designated representative. While within the safety zone, all vessels shall operate at the minimum speed necessary to maintain a safe course.

This notice is issued under authority of 33 CFR 165.939 and 5 U.S.C. 552(a). In addition to this notice in the Federal Register, the Coast Guard will provide the maritime community with advance notification of these enforcement periods via Broadcast Notice to Mariners and Local Notice to Mariners. If the Captain of the Port Buffalo determines that this safety zone need not be enforced for the full duration stated in this notice, he or she may use a Broadcast Notice to Mariners to grant general permission to enter the respective safety zone.

Dated: June 27, 2017.
J.S. Dufresne,
Captain, U.S. Coast Guard, Captain of the Port Buffalo.

[FR Doc. 2017-14034 Filed 7-3-17; 8:45 am]

BILLING CODE 9110-04-P